DEPARTMENT OF TRANSPORTATION

Pipeline and Hazardous Materials Safety Administration

[Docket No. PHMSA-2020-0164]

Frequently Asked Questions on 911 Notifications Following Possible Pipeline Ruptures

AGENCY: Pipeline and Hazardous Materials Safety Administration (PHMSA), DOT.

ACTION: Notice; draft frequently asked questions.

SUMMARY: The Pipeline and Hazardous Materials Safety Administration (PHMSA) is soliciting public comment on draft frequently asked questions (FAQs) intended to clarify existing regulatory requirements that operators of natural gas transmission and distribution pipelines and hazardous liquid pipelines alert emergency responders when a pipeline emergency occurs. The draft FAQs explain that compliance with these existing requirements is best achieved when operators promptly identify a possible rupture and alert emergency responders in the impacted community or jurisdiction through 911 services, or direct contact with emergency responders in areas where 911 services are not available.

DATES: Comments on the draft FAQs should be submitted to Docket No. PHMSA-2020-0164 no later than August 9, 2021.

ADDRESSES: E-Gov Web: http://www.regulations.gov. This site allows the public to enter comments on any Federal Register notice issued by any agency. Follow the online instructions for submitting comments.

• Mail: Docket Management System: U.S. Department of Transportation 1200 New Jersey Avenue SE, West Building, Ground Floor, Room W12-140, Washington, DC 20590-0001.

• Hand Delivery: Department of Transportation (DOT) Docket Management System: West Building, Ground Floor, Room W12-140, 1200 New Jersey Avenue SE, between 9:00 a.m. and 5:00 p.m. ET, Monday through Friday, except federal holidays.

• Fax: 202-493-2251.

• Instructions: Identify the Docket No. PHMSA-2020-0164, at the beginning of your comments. If you submit your comments by mail, submit two copies. If you wish to receive confirmation that PHMSA received your comments, include a self-addressed stamped postcard. Internet users may submit comments at http://www.regulations.gov.

• Privacy Act: DOT may solicit comments from the public regarding certain general notices. DOT posts these comments, without edit, including any personal information the commenter provides, to www.regulations.gov, as described in the system of records notice (DOT/ALL-14 FDMS), which can be reviewed at www.dot.gov/privacy.

• Confidential Business Information: Confidential Business Information (CBI) is commercial or financial information that is both customarily and actually treated as private by its owner. Under the Freedom of Information Act (FOIA) (5 U.S.C. 552), CBI is exempt from public disclosure. If your comments responsive to this notice contain commercial or financial information that is customarily treated as private, that you actually treat as private, and that is relevant or responsive to this notice, it is important that you clearly designate the submitted comments as CBI. Pursuant to 49 CFR 190.343, you may ask PHMSA to give confidential treatment to information you give to the Agency by taking the following steps: (1) Mark each page of the original document submission containing CBI as “Confidential,” (2) send PHMSA, along with the original document, a second copy of the original document with the CBI deleted, and (3) explain why the information you are submitting is CBI. Submissions containing CBI should be sent to Byron Coy at Pipeline and Hazardous Materials Safety Administration, Eastern Region, PHP-100, 840 Bear Tavern Rd., Suite 300., West Trenton, New Jersey 08628. Any commentary PHMSA receives that is not specifically designated as CBI will be placed in the public docket for this matter.

• Docket: For access to the docket to read background documents or comments received, go to http://www.regulations.gov. Follow the online instructions for accessing the dockets. Alternatively, you may review the documents in person at the street address listed above.

FOR FURTHER INFORMATION CONTACT: Byron Coy, Senior Technical Advisor, Program Development Division, by telephone at 609-433-2173, or by email at Byron.Coy@dot.gov.

SUPPLEMENTARY INFORMATION: In 2011, NTSB issued several safety recommendations following its investigation of the natural gas pipeline rupture and explosion that occurred on September 9, 2010, in San Bruno, California. Finding that the operator of the pipeline, Pacific Gas and Electric Company (PG&E), had not notified emergency officials that the accident involved the rupture of one of PG&E's pipelines, NTSB made the following recommendation to PHMSA:

Require operators of natural gas transmission and distribution pipelines and hazardous liquid pipelines to ensure that their control room operators immediately and directly notify the 911 emergency call center(s) for the communities and jurisdictions in which those pipelines are located when a possible rupture of any pipeline is indicated. (P-11-9)

Under existing pipeline safety regulations, operators are required to alert emergency responders when a pipeline emergency occurs. Section 192.615(a)(8) requires operators of natural gas pipelines to notify appropriate fire, police, and other public officials of gas pipeline emergencies. Section 195.402(e)(7) requires operators of hazardous liquid pipelines to do the same. Operators are also required to establish and maintain means of communication with appropriate fire, police, and other public officials under §§ 192.615(a)(2) and 195.402(c)(12).

In response to NTSB's recommendation, PHMSA first surveyed existing FAQs in related areas to determine if, and where, 911 notification following a possible rupture had already been addressed. As part of its research, PHMSA examined general PHMSA and pipeline safety FAQs, as well as FAQs related to gas transmission, gas distribution, hazardous liquid integrity management, control room management (CRM), and operator qualification.

PHMSA found that existing FAQs most closely related to this topic are those addressing CRM. These FAQs (listed in the Appendix) include the following:

• C.07 and C.09, which address emergency communications.

• F.01, G.02, G.03, H.06, and H.07, which cover emergency operations.

PHMSA found, however, that the existing FAQs do not explicitly address 911 notification in response to a possible pipeline rupture. In addition, while the FAQs pertain to CRM, some pipelines operate without a control room.

PHMSA considered adding 911 notifications to existing FAQs but determined that could dilute the importance of emergency notification requirements, as well as divert attention from the specific topic of the existing FAQs. Accordingly, PHMSA believes that the safety issues raised in NTSB's recommendation are of sufficient importance to merit new FAQs. In addition, since control room personnel may be fully occupied during an emergency addressing the emergency itself, an operator's procedures could assign the duty to notify emergency responders to others. Also, many smaller pipeline operators do not have control rooms. As a result, PHMSA is creating guidance for all operators to contact emergency responders without specifically stating that it must be the pipeline controllers who make the notification, as mentioned in the NTSB recommendation.

Issued in Washington, DC, on July 2, 2021, under authority delegated in 49 CFR 1.97.
Alan K. Mayberry,
Associate Administrator for Pipeline Safety.

[FR Doc. 2021-14582 Filed 7-7-21; 8:45 am]

BILLING CODE 4910-60-P